DEPARTMENT OF HOMELAND SECURITY

[Docket No. DHS-2024-0030]

Notice of Federal Advisory Committee Meeting

AGENCY: Office of Partnership and Engagement (OPE), Department of Homeland Security (DHS).

ACTION: Notice of partially closed Federal Advisory Committee meeting.

SUMMARY: OPE is publishing this notice that the Homeland Security Advisory Council (HSAC) will meet virtually on Friday, July 26, 2024. This meeting will be partially closed to the public. This meeting will discuss security related threats and the DHS response focused on the election season.

DATES:

Meeting Registration: Registration to attend the meeting is required and must be received no later than 5 p.m. Eastern Daylight Time (EDT) on Thursday, July 25, 2024. The meeting will take place from 1:00 p.m. ET to 2:00 p.m. ET on Friday, July 26, 2024. The meeting will be closed to the public from 1:20 p.m. ET to 2:00 p.m. ET. The meeting will be open to the public from 1:00 p.m. ET to 1:20 p.m. ET. The meeting may end early if the Council has completed its business.

ADDRESSES: The HSAC meeting will be held virtually. Members of the public interested in participating may do so via teleconference by following the process outlined below. For those attending the public session you will be in listen-only mode. Written comments must be submitted by 5:00 p.m. ET on July 25, 2024. Comments must be identified by Docket No. DHS-2024-0030 and may be submitted by one of the following methods:

• Federal eRulemaking Portal: http://www.regulations.gov. Follow the instructions for submitting comments.

• Email: HSAC@hq.dhs.gov. Include Docket No. DHS-2024-0030 in the subject line of the message.

• Mail: Rebecca Sternhell, Acting Executive Director of the Homeland Security Advisory Council, Office of Partnership and Engagement, Mailstop 0385, Department of Homeland Security, 2707 Martin Luther King Jr. Ave. SE, Washington, DC 20032.

Instructions: All submissions received must include the words “Department of Homeland Security” and “DHS-2024-0030”, the docket number for this action. Comments received will be posted without alteration at http://www.regulations.gov, including any personal information provided. You may wish to review the Privacy and Security Notice found via a link on the homepage of www.regulations.gov.

Docket: For access to the docket to read comments received by the Council, go to http://www.regulations.gov, search “DHS-2024-0030,” “Open Docket Folder” to view the comments.

FOR FURTHER INFORMATION CONTACT: Rebecca Sternhell, Acting Executive Director, HSAC at 202-891-2876 or HSAC@hq.dhs.gov.

SUPPLEMENTARY INFORMATION: An advisory committee meeting notice must be published in the Federal Register at least 15 calendar days before the meeting except in exceptional circumstances per 41 CFR 102-3.150. This notice is being provided with less than 15 days' notice due to exceptional circumstances of the assassination attempt on July 13. The meeting will focus on security related threats and the DHS response focused on the election season. Notice of this meeting is given under Section 10(a) of the Federal Advisory Committee Act (FACA), Public Law 92-463 (5 U.S.C. Ch. 10), which requires each FACA committee meeting to be open to the public unless the President, or the head of the agency to which the advisory committee reports, determines that a portion of the meeting may be closed to the public in accordance with 5 U.S.C. 552b(c).

The HSAC provides organizationally independent, strategic, timely, specific, actionable advice, and recommendations to the Secretary of Homeland Security on matters related to homeland security. The Council consists of senior executives from government, the private sector, academia, law enforcement, and non-governmental organizations.

The Council will meet in an open session between 1:00 p.m. to 1:20 p.m. ET to hear from senior DHS leadership. For the open session, members of the public will be in listen-only mode. Meeting instructions for virtual and in person attendance. Members of the public may register to participate in this Council meeting via teleconference under the following procedures. Each individual must provide their full legal name and email address no later than 5:00 p.m. ET on Thursday, July 25, 2024, to Rebecca Sternhell, Acting Executive Director of the Homeland Security Advisory Council, via email to HSAC@hq.dhs.gov or via phone at 202-891-2876. Members of the public who have registered to participate will be provided the teleconference call-in number. For more information about the HSAC, please visit our website: https://www.dhs.gov/homeland-ecurityadvisory-council.

For information on services for individuals with disabilities, or to request special assistance, please email HSAC@hq.dhs.gov by 5:00 p.m. ET on Thursday, July 25, 2024 or call 202-891-2876. The HSAC is committed to ensuring all participants have equal access regardless of disability status. If you require a reasonable accommodation due to a disability to fully participate, please contact Rebecca Sternhell at 202-891-2876 or HSAC@hq.dhs.gov as soon as possible.

The Council will meet in a closed session from 1:20 p.m. to 2:00 p.m. ET to participate in a sensitive discussion with DHS senior leaders regarding DHS operations.

Basis for Partial Closure: In accordance with Section 10(d) of FACA, the Secretary of Homeland Security has determined this meeting must be closed during this session as the disclosure of the information relayed would be detrimental to the public interest for the following reasons:

The Council will participate in a sensitive operational discussion containing For Official Use Only and Law Enforcement Sensitive information. This discussion will include information regarding threats facing the United States and how DHS plans to address those threats. The session is closed pursuant to 5 U.S.C. 552b(c)(9)(B) because the disclosure of this information could significantly frustrate implementation of proposed agency actions.

Dated: July 22, 2024.
Rebecca Sternhell,
Acting Executive Director, Homeland Security Advisory Council, Department of Homeland Security.

[FR Doc. 2024-16500 Filed 7-24-24; 8:45 am]

BILLING CODE 9112-FN-P